COMMITTEE FOR PURCHASE FROM PEOPLE WHO ARE BLIND OR SEVERELY DISABLED

Procurement List Addition

AGENCY: Committee for Purchase From People Who are Blind or Severely Disabled.

ACTION: Additions to Procurement List.

SUMMARY: This action adds to the Procurement List products to be furnished by nonprofit agencies employing persons who are blind or have other severe disabilities.

EFFECTIVE DATE: November 13, 2005.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, Telephone: (703) 603-7740, Fax: (703) 603-0655, or e-mail SKennerly@jwod.gov.

SUPPLEMENTARY INFORMATION: On May 6, 2006, the Committee for Purchase From People Who Are Blind or Severely Disabled published notice (70 F.R. 23979) of proposed additions to the Procurement List.

After consideration of the material presented to it concerning capability of qualified nonprofit agencies to provide the products and impact of the additions on the current or most recent contractors, the Committee has determined that the products listed below are suitable for procurement by the Federal Government under 41 U.S.C. 46-48c and 41 CFR 51-2.4.

The following comments pertain to Accustamp.

Comments were received from three of the current contractors for these stamps. Two of the contractors claimed that the stamps the nonprofit agency will be providing under the Committee's program are made in China, as opposed to the stamps the contractors provide, which one contractor makes in the United States (U.S.) and the other contractor assembles in the U.S. from components made in Japan and China, and that the Committee should not permit its program to displace U.S. products with Chinese products. One contractor claimed that it has been a Government supplier of the stamps for over 35 years, and has become reliant on these sales, which constitute a significant minority of its total Government sales. The same contractor claimed the nonprofit agency's stamps do not meet Government specifications in four specific areas. That contractor claimed that U.S. workers should not be laid off to provide jobs for people with severe disabilities. Another contractor cited the continuing impact of Procurement List additions on its sales. Two contractors claimed, without providing supporting data, that this addition will impact either the small businesses that supply the products or the distributors who sell them.

Contrary to the contractors' claims, the nonprofit agency will be using its employees with severe disabilities to assemble and package the stamps in the U.S. from components made in Austria, which is a designated country under the Trade Agreements Act, 19 U.S.C. 2501 et seq. Like the contractor workers they may displace, the persons with severe disabilities who will produce the stamps are U.S. workers, but with an unemployment rate which is well above other groups, so the Committee believes that creating jobs for them, which is the mission of the Committee's program, is justified in this situation.

The contractor which claimed a long-term reliance on Government sales of these stamps failed to provide the Committee with total sales data which would enable the Committee to assess the severity of impact of this Procurement List addition, despite being cautioned that the Committee would interpret a failure to provide data as an indication that the contractor did not consider the impact severe. As for this contractor's claim that the nonprofit agency's stamps do not meet Government specifications, the nonprofit agency has shown the Committee that its stamps do meet those specifications.

The cumulative impact of Procurement List additions over the past three years on the contractor which objected to these impacts does not reach the level which the Committee normally considers to be severe adverse impact. As the two contractors which alleged impact on their suppliers or distributors, respectively, failed to provide data to support their claims, the Committee is unable to assess the claims and is accordingly persuaded that these impacts cannot be severe.

The following material pertains to all of the items being added to the Procurement List.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 46-48c) in connection with the products proposed for addition to the Procurement List.

End of Certification

Accordingly, the following products are added to the Procurement List:

Products:

Product/name(s)/NSN(S): Accustamp

7510-01-207-3959—Refill Ink (Blue)

7510-01-207-3960—Refill Ink (Blue)

7510-01-207-3961—Refill Ink (Black)

7520-01-207-4118—Top Secret (Red)

7520-01-207-4150—C.O.D. (Red)

7520-01-207-4151—2000 plus 6 band number Stamp S-226

7520-01-207-4188—2000 plus R40 time stamp 12 hours—(Blue & Red)

7520-01-207-4190—Stamper 2000 6 Stamp Tray

7520-01-207-4194—Copy (Blue)

7520-01-207-4196—Approved (Blue)

7520-01-207-4202—Entered (Blue)

7520-01-207-4204—Priority (Red)

7520-01-207-4205—Expedite (Red)

7520-01-207-4206—Special (Red)

7520-01-207-4207—Posted (Red)

7520-01-207-4209—File (Red)

7520-01-207-4211—Draft (Black)

7520-01-207-4212—Copy for your Information (Red)

7520-01-207-4213—Official (Red)

7520-01-207-4216—Urgent (Red)

7520-01-207-4222—Original (Blue)

7520-01-207-4228—Cancelled (Blue)

7520-01-207-4231—Received (Red)

7520-01-207-4242—Unclassified (Red)

NPA: The Arbor School, Houston, Texas.

Contracting Activity: Office Supplies & Paper Products Acquisition Center, New York, NY.

This action does not affect current contracts awarded prior to the effective date of this addition or options that may be exercised under those contracts.

G. John Heyer,
General Counsel.

[FR Doc. E5-5647 Filed 10-13-05; 8:45 am]

BILLING CODE 6353-01-P